DEPARTMENT OF COMMERCE

National Oceanic and Atmospheric Administration

RIN 0648-XA747

Fisheries of the Exclusive Economic Zone Off Alaska; Recordkeeping and Reporting Requirements; Public Workshops

AGENCY: National Marine Fisheries Service (NMFS), National Oceanic and Atmospheric Administration (NOAA), Commerce.

ACTION: Notice of workshop.

SUMMARY: NMFS, Alaska Region, will present a workshop on seaLandings, a consolidated electronic means of reporting landings and production of commercial groundfish to multiple management agencies for Federal and State fisheries off Alaska, and 2012 recordkeeping and reporting requirements for the Alaska groundfish fisheries and Individual Fishing Quota fisheries.

DATES: The workshop will be held on November 16, 2011, from 9 a.m. to 3 p.m., Pacific Standard Time.

ADDRESSES: The workshop will be held at the Silver Cloud Lake Union Hotel located at 1150 Fairview Ave. North, Seattle, WA. Directions to the hotel can be found on their Web site, http://www.silvercloud.com/seattlelakeunion/location.php.

FOR FURTHER INFORMATION CONTACT: Susan Hall, 907-586-7462.

SUPPLEMENTARY INFORMATION: The workshop will include a discussion of 2012 recordkeeping and reporting requirements for Alaska groundfish fisheries and Individual Fishing Quota fisheries and instructions for completing and submitting required reports and logbooks using seaLandings.

NMFS will provide a demonstration of the new version of seaLandings for at-sea catcher/processors and motherships, and training on how to submit daily production reports and landing reports with and without Individual Fishing Quota. NMFS will also provide a demonstration of the trawl catcher/processor electronic logbook in seaLandings.

Special Accommodations

These workshops will be physically accessible to people with disabilities. Requests for sign language interpretation or other auxiliary aids should be directed to Susan Hall, 907-586-7462, at least 5 working days prior to the meeting date.

Dated: October 18, 2011.
Emily H. Menashes,
Acting Director, Office of Sustainable Fisheries, National Marine Fisheries Service.

[FR Doc. 2011-27345 Filed 10-20-11; 8:45 am]

BILLING CODE 3510-22-P